DEPARTMENT OF HOMELAND SECURITY

Federal Emergency Management Agency

[Docket ID FEMA-2007-0008]

National Advisory Council; Meeting

AGENCY: Federal Emergency Management Agency, DHS.

ACTION: Committee Management; Notice of Federal Advisory Committee Meeting.

SUMMARY: The Federal Emergency Management Agency (FEMA) National Advisory Council (NAC) will meet in person on February 9, 10, and 11, 2016 in Raleigh, N.C. The meeting will be open to the public.

DATES: The NAC will meet on Tuesday, February 9, 2016, from 8:30 a.m. to 2:45 p.m., on Wednesday, February 10, 2016 from 8:30 a.m. to 5:30 p.m., and on Thursday, February 11 from 8:30 a.m. to 12:00 p.m. Eastern Standard Time (EST). Please note that the meeting may close early if the NAC has completed its business.

ADDRESSES: The meeting will be held at the North Carolina Office of Emergency Management located at 1636 Gold Star Drive in Raleigh, NC, 27607. All attendees must provide a valid government I.D., such as a driver's license, to access the building. It is recommended that attendees register with FEMA prior to the meeting by providing your name, telephone number, email address, title, and organization to the person listed in FOR FURTHER INFORMATION CONTACT below.

For information on facilities or services for individuals with disabilities or to request special assistance at the meeting, contact the person listed in FOR FURTHER INFORMATION CONTACT below as soon as possible.

To facilitate public participation, members of the public are invited to provide written comments on the issues to be considered by the NAC. The “Agenda” section below outlines these issues. Written comments must be submitted and received by 5:00 p.m. EST on February 8, 2016, identified by Docket ID FEMA-2007-0008, and submitted by one of the following methods:

• Federal eRulemaking Portal: http://www.regulations.gov. Follow the instructions for submitting comments.

• Email: FEMA-RULES@fema.dhs.gov. Include the docket number in the subject line of the message.

• Fax: (540) 504-2331.

• Mail: Regulatory Affairs Division, Office of Chief Counsel, FEMA, 500 C Street SW., Room 8NE, Washington, DC 20472-3100.

Instructions: All submissions received must include the words “Federal Emergency Management Agency” and the docket number for this action. Comments received will be posted without alteration at http://www.regulations.gov, including any personal information provided.

Docket: For access to the docket to read comments received by the NAC, go to http://www.regulations.gov, and search for the Docket ID listed above.

A public comment period will be held on Wednesday, February 10 from 4:00 p.m. to 4:15 p.m. EST. All speakers must limit their comments to 3 minutes. Comments should be addressed to the committee. Any comments not related to the agenda topics will not be considered by the NAC. To register to make remarks during the public comment period, contact the individual listed below by February 8, 2016. Please note that the public comment period may end before the time indicated, following the last call for comments.

FOR FURTHER INFORMATION CONTACT: Alexandra Woodruff, Designated Federal Officer, Office of the National Advisory Council, Federal Emergency Management Agency, 500 C Street SW., Washington, DC 20472-3184, telephone (202) 646-2700, fax (540) 504-2331, and email FEMA-NAC@fema.dhs.gov. The NAC Web site is: http://www.fema.gov/national-advisory-council.

SUPPLEMENTARY INFORMATION: Notice of this meeting is given under the Federal Advisory Committee Act, 5 U.S.C. Appendix.

The NAC advises the FEMA Administrator on all aspects of emergency management. The NAC incorporates state, local, and tribal government, and private sector input in the development and revision of FEMA plans and strategies. The NAC includes a cross-section of officials, emergency managers, and emergency response providers from state, local, and tribal governments, the private sector, and nongovernmental organizations.

Agenda: On Tuesday, February 9, the NAC will review FEMA's response from the NAC's September 2015 Meeting Recommendations, receive briefings from FEMA Executive Staff (FEMA Office of Response and Recovery, FEMA National Preparedness Directorate, and FEMA Federal Insurance and Mitigation Administration), and engage in a facilitated group discussion on the Cascadia Subduction Zone.

On Wednesday, February 10, the NAC will hear from a FEMA Regional Administrator about activities in the FEMA Regions and engage in an open discussion with the FEMA Administrator. The three NAC subcommittees: Federal Insurance and Mitigation Subcommittee, Preparedness and Protection Subcommittee, and Response and Recovery Subcommittee, will then provide reports to the NAC about their work, whereupon the NAC will deliberate on any recommendations presented in the subcommittees' reports, and, if appropriate, vote on recommendations for the FEMA Administrator. The subcommittee reports will be posted on the NAC Web page by 8:30 a.m. on Wednesday, February 10. The NAC will receive a briefing about the FEMA Youth Preparedness Council and engage in a facilitated discussion of the status of previously submitted NAC recommendations.

On Thursday, February 11, the NAC will hear remarks from the NAC Chair and Vice Chair, review agreed upon recommendations and confirm charges for the subcommittees, and engage in an open discussion with the FEMA Deputy Administrator. The meeting will conclude with two NAC member presentations.

The full agenda and any related documents for this meeting will be posted by Friday, February 5 on the NAC Web site at http://www.fema.gov/national-advisory-council.

Dated: January 15, 2015.
W. Craig Fugate,
Administrator, Federal Emergency Management Agency.

[FR Doc. 2016-01247 Filed 1-21-16; 8:45 am]

BILLING CODE 9111-48-P